DEPARTMENT OF LABOR

Office of Workers' Compensation Programs

Division of Longshore and Harbor Workers' Compensation Proposed Revision of Existing Collection; Comment Request

ACTION: Notice.

SUMMARY: The Department of Labor, as part of its continuing effort to reduce paperwork and respondent burden, conducts a preclearance consultation program to provide the general public and Federal agencies with an opportunity to comment on proposed and/or continuing collections of information in accordance with the paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Workers' Compensation Programs (OWCP) is soliciting comments concerning the proposed collection: Regulations Governing the Administration of the Longshore and Harbor Workers' Compensation Act (LS-200, LS-201, LS-203, LS-204, LS-262, LS-267, LS-271, LS-274, and LS-513). A copy of the proposed information collection request can be obtained by contacting the office listed below in the address section of this Notice.

DATES: Written comments must be submitted to the office listed in the addresses section below on or before November 18, 2013.

ADDRESSES: Ms. Yoon Ferguson, U.S. Department of Labor, 200 Constitution Ave. NW., Room S-3201, Washington, DC 20210, telephone (202) 693-0701, fax (202) 693-1447, Email ferguson.yoon@dol.gov. Please use only one method of transmission for comments (mail, fax, or Email).

SUPPLEMENTARY INFORMATION:

I. Background

The Office of Workers' Compensation Programs (OWCP) administers the Longshore and Harbor Workers' Compensation Act (LHWCA). LHWCA provides benefits to workers injured in maritime employment on the navigable waters of the United States or in an adjoining area customarily used by an employer in loading, unloading, repairing, or building a vessel. In addition, several Acts extend the Longshore Act's benefits and procedures to certain other employees. The information collections in this package are necessary for proper administration of the provisions of the LHWCA and its extensions. This information collection is currently approved for use through August 31, 2015. However, one of the forms in this package, the LS-513 (Report of Payments), is now being modified slightly to include the collection of additional data which has caused a change in burden. The LS-513 is used by insurance carriers and self-insured employers to annually report the total amount of payments made under the LHWCA and its extensions. The modifications to the LS-513 will affect only those few carriers and self-insured employers making payments under the Defense Base Act (DBA), one of the LHWCA's extensions. These entities will now be required to report their DBA payments by contracting agency (i.e., the government agency with which the injured worker's employer contracted) on the form. OWCP needs this information to better cross-reference the information submitted on the LS-202 (Employer's First Report of Injury or Occupational Illness) and to adequately monitor DBA claims processing and compliance. OWCP estimates that the LS-513 modification will increase total burden for the form by only 5 hours. While respondents who do not currently capture the contracting-agency data in a way that can be easily retrieved and reported may incur additional costs to adapt their information technology systems to this reporting requirement, these costs will be limited to the first year. OWCP estimates the additional first-year cost to be $769.40 per respondent.

Both the LS-513 and another form in this package, the LS-274 (Report of Injury Experience), have an increase in burden due to the program not being able to collect the information via proposed weblink as originally forecasted. The additional increases are 122.5 hours for the LS-513 and 518 hours for the LS-274. The package is being re-submitted for this reason as well.

II. Review Focus: The Department of Labor is particularly interested in comments which:

* Evaluate whether the proposed collection of information is necessary for the proper performance of the functions of the agency, including whether the information will have practical utility;

* evaluate the accuracy of the agency's estimate of the burden of the proposed collection of information, including the validity of the methodology and assumptions used;

* enhance the quality, utility and clarity of the information to be collected; and

* minimize the burden of the collection of information on those who are to respond, including through the use of appropriate automated, electronic, mechanical, or other technological collection techniques or other forms of information technology, e.g., permitting electronic submissions of responses.

III. Current Actions: The Department of Labor seeks the approval for the revision of this currently approved information collection.

Agency: Office of Workers' Compensation Programs.

Type of Review: Revision.

Title: Regulations Governing the Administration of the Longshore and Harbor Workers' Compensation Act.

OMB Number: 1240-0014.

Agency Number: (LS-200, LS-201, LS-203, LS-204, LS-262, LS-267, LS-271, LS-274, and LS-513).

Affected Public: Individuals or households, Businesses or other for-profit.

Total Respondents: 130,036.

Total Annual Responses: 130,036.

Estimated Total Burden Hours: 44,955.

Estimated Time per Response: 2 minutes to 3 hours.

Frequency: On occasion and annually.

Total Burden Cost (capital/startup): $0.

Total Burden Cost (operating/maintenance): $46,866.

Burden summary | Hours
LS-200 (20 CFR 702.285, Report of Earnings) | 1,904
20 CFR 702.162 (Liens) | 5
20 CFR 702.174 (Certifications) | 4
20 CFR 702.175 (Reinstatements) | 1
20 CFR 702.242 (Settlement Applications) | 9,498
20 CFR 702.321 (Section 8(f) Payments) | 1,425
ESA-100 (20 CFR 702.111, 702.201) | 840
LS-271 (Self Insurance Application) | 60
LS-274 (Report of Injury Experience of Insurance Carrier or Self-Insured Employer) | 565
LS-201 (Injury or Death Notice) | 910
LS-513 (Payment Report) | 288
LS-267 (Claimant's Statement) | 37
LS-203 (Employee Comp. Claim) | 2,048
LS-204 (Medical Report) | 27,300
LS-262 (Claim for Death Benefits) | 70
Total Burden Hours | 44,955

Comments submitted in response to this notice will be summarized and/or included in the request for Office of Management and Budget approval of the information collection request; they will also become a matter of public record.

Dated: September 12, 2013.
Yoon Ferguson,
Agency Clearance Officer, Office of Workers' Compensation Programs, U.S. Department of Labor.

[FR Doc. 2013-22705 Filed 9-17-13; 8:45 am]

BILLING CODE 4510-CF-P